DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the Project Officer indicated below.

U.S. Automotive Parts and Components Business Development Mission to Russia

Moscow, Samara and Togliatti, April 6-12, 2003, Recruitment closes on February 14, 2003.

For further information contact: Ms. Phyllis Bradley, U.S. Department of Commerce, telephone 202-482-2085, or e-mail to Phyllis.Bradley@mail.doc.gov—or, in Russia, Mr. Geoffrey Cleasby, U.S. Embassy, Moscow, telephone 7-095-737-5030, fax 7-095-737-5033, or e-mail to Geoffrey.Cleasby@mail.doc.gov

Aerospace Executive Service at Latin America Defentech—Fourth International Exhibition & Conference on Defense Technology

Rio de Janeiro, Brazil, April 22-24, 2003, Recruitment closes on March 10, 2003.

For further information contact: Mr. Jason Sproule, U.S. Department of Commerce, telephone 949-660-1688, ext. 151, or e-mail to Jason.Sproule@mail.doc.gov

Assistant Secretarial Business Development Mission to Morocco and Egypt

Casablanca, Rabat and Cairo, May 25-June 2, 2003, Recruitment closes on March 12, 2003.

For further information contact: Ms. Caroline McCall, U.S. Department of Commerce, telephone 202-482-2499, or e-mail to Trade.Missions@mail.doc.gov

Aerospace Executive Service Program at the Paris Air Show

Paris, France, June 16-18, 2003, Recruitment closes on April 18, 2003.

For further information contact: Ms. Danielle Dooley, U.S. Department of Commerce, telephone 303-844-6623, ext. 14, or e-mail to Danielle.Dooley@mail.doc.gov

Medical Device Trade Mission to Panama, Guatemala and Honduras

Panama City, Guatemala City and Tegucigalpa, July 13-19, 2003, Recruitment closes on May 16, 2003.

For further information contact: Mr. Steven Harper, U.S. Department of Commerce, telephone 202-482-2991, or e-mail to Steven_Harper@ita.doc.gov

Recruitment and selection of private sector participants for these trade missions will be conducted according to the Statement of Policy Governing Department of Commerce Overseas Trade Missions dated March 3, 1997.

For further information contact: Mr. Thomas Nisbet, U.S. Department of Commerce, telephone 202-482-5657, or e-mail Tom_Nisbet@ita.doc.gov

Dated: January 9, 2003.
Thomas H. Nisbet,
Director, Export Promotion Coordination, Office of Planning, Coordination and Management.

[FR Doc. 03-865 Filed 1-14-03; 8:45 am]

BILLING CODE 3510-DR-P